DEPARTMENT OF HEALTH AND HUMAN SERVICES

Centers for Disease Control and Prevention

Designation of a Class of Employees for Addition to the Special Exposure Cohort

AGENCY: Centers for Disease Control and Prevention (CDC), Department of Health and Human Services (HHS).

ACTION: Notice.

SUMMARY: The Department of Health and Human Services (HHS) gives notice of a decision to designate a class of employees at the Y-12 Plant, in Oak Ridge, Tennessee as an addition to the Special Exposure Cohort (SEC) under the Energy Employees Occupational Illness Compensation Program Act of 2000. On August 8, 2006, the Secretary of HHS designated the following class of employees an addition to the SEC:

Department of Energy (DOE) employees or DOE contractor or subcontractor employees who were monitored or should have been monitored for:

(1) Thorium exposures while working in Building 9201-3, 9202, 9204-1, 9204-3, 9206, or 9212 at Y-12 for a number of work days aggregating at least 250 work days from January 1948 through December 1957 or in combination with work days within the parameters (excluding aggregate work day requirements) established for one or more classes of employees in the SEC; or

(2) Radionuclide exposures associated with cyclotron operations in Building 9201-2 at Y-12 for a number of work days aggregating at least 250 work days from January 1948 through December 1957 or in combination with work days within the parameters (excluding aggregate work day requirements) established for one or more classes of employees in the SEC.

This designation will become effective on September 7, 2006, unless Congress provides otherwise prior to the effective date. After this effective date, HHS will publish a notice in the Federal Register reporting the addition of this class to the SEC or the result of any provisions by Congress regarding the decision by HHS to add the class to the SEC.

FOR FURTHER INFORMATION CONTACT: Larry Elliott, Director, Office of Compensation Analysis and Support; National Institute for Occupational Safety and Health, 4676 Columbia Parkway, MS C-46, Cincinnati, OH 45226, Telephone 513-533-6800 (this is not a toll-free number). Information requests can also be submitted by e-mail to OCAS@CDC.GOV.

John Howard,
Director, National Institute for Occupational Safety and Health, Centers for Disease Control and Prevention.

[FR Doc. 06-7486 Filed 9-6-06; 8:45 am]

BILLING CODE 4160-17-M